DEPARTMENT OF DEFENSE

Office of the Secretary

Meetings of the National Commission on the Structure of the Air Force; Cancellation of October 1, 2013, October 4, 2013 and October 9, 2013 Meetings

AGENCY: Director of Administration and Management, DoD.

ACTION: Notice of Advisory Committee Meeting; Cancellation.

SUMMARY: On Thursday, September 12, 2013 (78 FR 56219-56220), the Department of Defense published a notice announcing an October 1, 2013 meeting of the National Commission on the Structure of the Air Force in Bossier City, Louisiana. On Thursday, September 26, 2013 (78 FR 59343-59344), the Department of Defense published a notice announcing an October 4, 2013 meeting of the National Commission on the Structure of the Air Force in Colorado Springs, Colorado. On October 3, 2013 (78 FR 61342-61343), the Department of Defense published a notice announcing an October 9, 2013 meeting of the National Commission on the Structure of the Air Force in Chicopee, Massachusetts. Under the provisions of the Federal Advisory Committee Act of 1972 (5 U.S.C., Appendix, as amended), and the Government in the Sunshine Act of 1976 (5 U.S.C. 552b, as amended), this notice announces that the National Commission on the Structure of the Air Force meetings scheduled for Tuesday, October 1, Friday, October 4, 2013 and Wednesday, October 9, 2013 were cancelled due to the government shutdown.

FOR FURTHER INFORMATION CONTACT: Mrs. Marcia Moore, Designated Federal Officer, National Commission on the Structure of the Air Force, 1950 Defense Pentagon Room 3A874, Washington, DC 20301-1950. Email: marcia.l.moore12.civ@mail.mil. Desk (703) 545-9113. Facsimile (703) 692-5625.

SUPPLEMENTARY INFORMATION:

Meeting Announcement: Due to the lapse of appropriations, the Department of Defense cancelled the meetings of the National Commission on the Structure of the Air Force on October 1, 4, and 9 of 2013. As a result, the Department of Defense was unable to provide appropriate notification as required by 41 CFR 102-3.150(a). Therefore, the Advisory Committee Management Officer for the Department of Defense, pursuant to 41 CFR 102-3.150(b), waives the 15-calendar day notification requirement.

Dated: October 18, 2013.
Aaron Siegel,
Alternate OSD Federal Register Liaison Officer, Department of Defense.

[FR Doc. 2013-24788 Filed 10-22-13; 8:45 am]

BILLING CODE 5001-06-P